CORPORATION FOR NATIONAL AND COMMUNITY SERVICE

Funding Opportunity for National Provider of Training and Technical Assistance to National and Community Service and Service Learning Programs Operated by Indian Tribes or Involving Native Americans

AGENCY: Corporation for National and Community Service.

ACTION: Notice of funding opportunity.

SUMMARY: Subject to the availability of appropriations, the Corporation for National and Community Service (hereinafter the “Corporation”) intends to award approximately $300,000 to support an organization selected under this Notice to provide training and technical assistance (T/TA) to national and community service and service learning programs that are operated by Indian Tribes or involve Native Americans. [Note: The scope of this assistance may also be expanded to include “programs operating in U. S. Territories.”]

The Corporation intends to enter into a cooperative agreement of up to three years with the selected organization, beginning on or about December 1, 2002. The funding opportunity announced under this Notice will support the initial phase of the agreement (generally the first year's budget), with additional funding contingent upon need, quality of service, the nature and scope of activities to be supported, and availability of appropriations for this purpose.

Note: This is a notice for selection of an organization to provide training and technical assistance to national and community service grantees. This is not a notice of funding opportunity for the operation of program grants.

DATES: Proposals must be received by the Corporation by 5 p.m. Eastern time on October 21, 2002.

The Corporation will not accept applications that are submitted by facsimile. Due to delays in delivery of regular U.S.P.S. mail to government offices, your application may not arrive in time to be considered. We suggest that you use U.S.P.S. priority mail or a commercial overnight service.

ADDRESSES: Submit proposals to the Corporation for National and Community Service, Attention: Cathy Harrison, Room 9704-A, 1201 New York Avenue, NW., Washington, DC 20525.

FOR FURTHER INFORMATION CONTACT: David Bellama at the Corporation for National and Community Service, (202) 606-5000, ext. 483; e-mail dbellama@cns.gov. The TTY number is (202) 565-2799. This Notice is available on the Corporation's Web site: http://www.nationalservice.org/whatshot/notices. Upon request, this information will be made available in alternate formats for people with disabilities.

SUPPLEMENTARY INFORMATION:

I. Background

The Corporation is a federal government corporation that encourages Americans of all ages and backgrounds to engage in national and community-based service to meet the nation's educational, public safety, environmental and other human needs and to achieve direct and demonstrable results. In doing so, the Corporation fosters civic responsibility, strengthens the ties that bind us together as a people, and provides educational opportunity for those who make a substantial commitment to service. For more information about the Corporation and the activities it supports, go to http://www.nationalservice.org.

II. Conditions

A. Legal Authority

Section 198 of the National and Community Service Act of 1990, as amended, 42 U.S.C. 12653, authorizes the Corporation to provide, directly or through contracts or cooperative agreements, training and technical assistance in support of activities under the national service laws. Section 125 of that Act and titles I and II of the Domestic Volunteer Service Act (42 U.S.C. 4250) provide additional authority.

B. Cooperative Agreement

An award made under this Notice will be in the form of a cooperative agreement. Cooperative agreements are subject to Corporation regulations on general administrative requirements: 45 CFR part 2541 (for agreements with State and local government agencies and Indian tribal governments) and 45 CFR part 2543 (for agreements with institutions of higher education, non-profit organizations and commercial entities). The Provider must comply with reporting requirements, including submitting semi-annual financial reports and progress reports linking progress on deliverables to expenditures.

Cooperative agreements require substantial involvement on the part of the Corporation. Substantial involvement includes frequent and regular communication with and monitoring by the Corporation's cognizant training officer (COTR). The COTR will confer with the Provider on a regular basis to review project status and service delivery, including work plans, budgets, periodic reports, materials developed, preparation for and implementation of training events, targeting of the Provider's services, and assessment of the Provider's effectiveness.

C. Time Frame

The Corporation expects that activities assisted under the agreement awarded through this Notice will commence on or about December 1, 2002, following the conclusion of the selection and award process.

The Corporation will make an award covering a period not to exceed three years. If the Corporation approves an application and enters into a multi-year award agreement, funding will be provided for the first year only. Funding for the second and third years of an award period is contingent upon need, quality of service, the nature and scope of activities to be supported, and availability of appropriations for the purpose of the award. The Corporation has no obligation to provide additional funding in subsequent years.

D. Use of Materials

To ensure that materials generated with Corporation funding for training and technical assistance purposes are available to the public and readily accessible to grantees and sub-grantees, the Corporation reserves a royalty-free, non-exclusive, and irrevocable right to obtain, use, reproduce, publish, or disseminate publications and materials produced under the agreement, including data, and to authorize others to do so. The Provider must agree to make such publications and materials available to the national service field, as identified by the Corporation, at no cost or at the cost of reproduction. All materials developed for the Corporation must be consistent with Corporation editorial and publication guidelines and must be accessible to individuals with disabilities to the extent required by law.

III. Eligibility

State and local government entities, non-profit organizations, institutions of higher education, Indian tribes, and commercial entities are eligible to apply. Pursuant to the Lobbying Disclosure Act of 1995, an organization described in section 501(c)(4) of the Internal Revenue Code of 1986, 26 U.S.C. 501(c)(4), which engages in lobbying, is not eligible to apply. Organizations that operate or intend to operate Corporation-supported programs are eligible.

The Corporation anticipates making a single award for this purpose. We will consider proposals from single applicants, applicants in partnership and applicants proposing other approaches we consider responsive to this Notice.

Organizations may apply to provide training and technical assistance in partnership with organizations seeking other Corporation funds. Based on previous training and technical assistance competitions and our estimate of potential applicants, we expect fewer than ten applications to be submitted.

IV. Corporation Programs Operated by Indian Tribes or Involving Native Americans—Background

The Corporation for National and Community Service supports a wide range of programs under the National and Community Service Act and the Domestic Volunteer Service Act, under which projects use service and service learning as the means to respond to serious educational, environmental, public safety, and other human needs on Native American lands or affecting Native American populations. Corporation programs operated by Indian Tribes or involving Native Americans include AmeriCorps*Tribal programs and Tribal Civilian Community Corps residential programs, AmeriCorps*VISTA projects, National Senior Service Corps projects (including Foster Grandparent, Senior Companion, and RSVP projects), Learn and Serve America programs, AmeriCorps Promise Fellow programs, and AmeriCorps*State and National programs involving Native Americans. More information may be found under the above-named programs on the national service Web site (www.nationalservice.org); under National Service in Your State (www.nationalservice.org/stateprofiles/index.html); and under National Service in Indian Country (www.nationalservice.org/stateprofiles/it_intro.html).

V. Scope of Training and Technical Assistance To Be Supported: Objectives and Delivery Requirements

A. Training and Technical Assistance Objectives

The Provider should develop a training and technical assistance strategy that will serve programs operated directly by Indian tribes as well as those serving Native Americans, but managed by other entities. These might include such wide variations as a tribally operated AmeriCorps program on a reservation, a tribally operated Learn & Serve America program at a tribal or non-tribal school or college, or even a non-tribally operated Senior Corps or VISTA project that has activities both on and off a reservation or serves Native Americans in an urban area. The Provider will broker the services of consultants and other national and local providers, as appropriate, and offer direct services when they fall within the range of expertise of the Provider. Whatever the context, the Provider should deliver a T/TA program that reflects the diverse and unique needs of Native Americans involved in service and service-learning projects.

In presenting its T/TA plan, the applicant should describe the strategies and methodologies it will use to assure that the following objectives are achieved:

1. The identification of characteristics of successful Native American programs, based on research and input from programs operating in the field, and the development of a menu of training and technical assistance resources linked to those characteristics and designed to support programs in achieving them;

2. The utilization of training and technical assistance activities and products that are interactive, culturally appropriate, experiential, based on the principles of adult learning, and adaptable to participants at various levels of existing experience, knowledge and skills.

3. A collaborative, partnership relation with programs in the creation and conduct of needs assessments, exploration and clarification of needs, and determination of the most suitable strategies for responses to needs.

4. The use of an appropriate variety of methodologies in responding to T/TA needs, including, among others:

a. The promotion and use of electronic, telephone and other means of communication and technology to link programs with relevant resources and with each other;

b. Targeted training, periodic workshops and on-site consultancies for program staff on specific issues (such as program management techniques, action planning, partnership development strategies, service-learning techniques, etc.);

c. The development and dissemination, on a regular basis, of articles, resource materials and information, calendars of training events and conferences, service-learning information, orientation curricula and materials for program staff, members, participants, volunteers, and other resources of relevance to Native American programs;

d. The development and promotion of a variety of strategies for using expert peers;

e. Referral to other consultants/providers, as appropriate;

f. An annual national conference on service in Indian country.

5. Capacity-building and demonstrable skill development on the part of programs in the following areas:

a. The creation and use of effective systems for documenting, tracking and highlighting program, member, volunteer, participant, and community achievements;

b. Improvement in the quality of program objectives, desired outcomes, assessment of performance, and accountability;

c. The development of programs' internal training and technical assistance capacity, such as improving skills in problem identification, problem solving, training, and assessing and using local T/TA resources;

6. A system of pro-active, targeted outreach to programs needing T/TA services in particular areas or fields, such as financial management, volunteer generation, tutoring, etc.

7. The linking of all T/TA activities to the greatest extent possible to the goals of:

a. program sustainability, including community and citizen involvement, resource mobilization and development, volunteer generation and management, partnership development, community outreach, and program identity; and

b. program accountability, including the development of meaningful objectives, as well as effective program plans to achieve them and document their outcomes.

8. The facilitation of partnerships with other providers and organizations that may be of assistance to Native American programs and activities, including:

a. The promotion of awareness and provision of training and orientation to Native Americans on Corporation and other potential resources and activities for programs, and on opportunities for collaboration and partnership;

b. The promotion of awareness and provision of training and orientation to other organizations, training providers, and potential partners, as needed, on Native American programs, issues and collaboration opportunities;

c. The conduct of joint training sessions when appropriate;

d. The review and evaluation of resource materials developed by other organizations and providers to assure that they are appropriate and useful for Indian tribes operating national and community service and service learning programs.

9. Collaboration with the National Service Resource Center (NSRC) and National Service Learning Clearinghouse (NSLC) to establish and promote a resource library of materials specifically related to the needs of Indian tribes operating national and community service and service-learning programs.

10. The recruitment of a qualified pool of consultants, with an appropriate range of skills and expertise and Native American representation.

Note: The scope of this training and technical assistance may also be expanded to include programs operating in U.S. Territories.

B. Training and Technical Assistance Requirements

1. Performance Measurement and Accountability

The Corporation is committed to accountability and the measuring of performance for all its grantees, including training and technical assistance providers. The Provider must develop effective systems to identify the critical outcomes of its work, indicators of its success in this work, and how these can be judged or measured. The Corporation needs tangible information documenting the effectiveness and outcomes of the Provider's work.

In its proposal, the applicant must demonstrate its understanding of accountability in grant-funded programs and its experience in and plans for identifying and reporting on the significant outcomes of its work with programs. Specific performance measures and reporting guidelines will be finalized between the Corporation and the awardee at the time of the award negotiation, based on the Corporation's FY 2003 Administrative Guidance.

The Provider will develop a plan to assess the impact of its services for clients. The assessment must be ongoing and must be used to inform program planning. It must also encompass immediate as well as long term training impact. The Provider must submit evaluation summaries, and records of evaluations must be available for review.

The Corporation may also require an independent assessment of the Provider's performance.

2. Reporting Requirements

The Provider is responsible for submitting timely progress and financial reports to the Corporation during and after the award period, as follows:

a. Semi-annual Progress Reports. Progress reports must be submitted semi-annually and are due within thirty days of the end of each budget period during the cooperative agreement. The Provider must submit this information electronically. As noted above, the Corporation will provide guidance as to the contents of these reports.

b. Financial Reports. Financial reports must be submitted semi-annually, within 30 days of the end of the budget period, and must include a summary of expenditures for the period. The reports are cumulative and must be submitted on the Financial Status Report (FSR) form SF 269A.

c. Final Reports.

i. Providers completing the final year of their agreement must submit, in lieu of the last semi-annual progress report, a final progress report that is cumulative over the entire award period. The final progress report is due 90 days after the end of the agreement.

ii. Providers completing the final year of their award must submit, in lieu of the last semi-annual FSR, a final FSR that is cumulative over the entire award period. The final FSR is due 90 days after the end of the agreement and must be submitted to the Office of Grants Management. Further guidance for final reports will be provided prior to the end of the agreement.

d. Other Reports. The Provider must submit such special reports as may be reasonably requested by the Corporation.

3. Accessibility to Persons With Disabilities

Ensure that all training and technical assistance resources, including Web sites, are accessible to persons with disabilities, as required by law, by doing the following:

a. Notifying potential participants that reasonable accommodations will be provided upon request;

b. Providing reasonable accommodations when requested to do so, to include sign language interpreters, special assistance, and documents in alternate formats;

c. Using accessible locations for training events;

d. Using accessible technology, captioning videos, avoiding non-voice-over formats, and when indicating a telephone number, including a non-voice telephone alternative such as TTY or e-mail;

4. Other Requirements

Grant provisions will be provided as a part of the signed cooperative agreement. Regular and candid communication with the cognizant training officer is essential. A set of general expectations of the Provider is as follows.

The Provider must:

a. Meet as necessary with the cognizant training officer or other staff or consultants designated by the cognizant training officer to exchange views, ideas, and information concerning training and technical assistance.

b. Ensure that Provider staff and consultants are fully versed in the background, approach, vocabulary, assets, needs, and objectives of the Corporation and each of its programs.

c. Participate in the planning and implementation of national meetings and training events, including meetings of all Corporation training and technical assistance providers, as requested by the Corporation.

d. Collaborate in materials development and training events organized by other providers or the Corporation, as requested.

e. Share effective practices with the field and other providers through Corporation listservs, the Corporation's effective practices database, and other mechanisms such as the National Service-Learning Clearinghouse and the National Service Resource Center.

f. Use technology creatively and effectively as a cost-effective strategy for reaching large numbers of grantees, subgrantees, and others related to national and community service and service-learning programs.

VI. Application Guidelines

A. Proposal Content and Submission

Applicants must submit one unbound, original proposal and two bound copies. Proposals must include the following components and should not exceed a total of 50 pages in length:

1. Cover Page and Executive Summary

The cover page must include (a) the name, address, phone number, fax number, and e-mail address of the contact person, and the World Wide Web site URL (if available) of the applicant organization; (b) a 250-500 word executive summary of the proposed training and technical assistance strategy; and, (c) the total funding amount requested for the first year.

2. List of Activities and Materials

A one-to-two page list of all proposed training and technical assistance activities and materials.

3. Training and Technical Assistance Strategy and Delivery Plan

A bulleted narrative of no more than 15 double-spaced, single-sided, typed pages in no smaller than 12-point font that includes:

The applicant's proposed first-year strategy for providing training and technical assistance to service and service-learning programs operated by Indian tribes or involving Native Americans, with proposed changes (if any) for years two and three. Using the objectives, components and requirements outlined in Section V of this Notice as a point of departure, the applicant organization should describe its specific strategies, methodologies, techniques and plans for achieving successful T/TA results with programs in the most effective way. In this section, the Corporation wishes to know, among other things, how the applicant organization will help programs identify needs; how it will approach, reach and work with the programs to respond to those needs; the tools and resources it will use and how it will use them; the outcomes it will be looking for and how it will define and demonstrate them; and the strategies it will use to learn from its experiences and then apply those lessons learned to improve results. The section should include a detailed timeline and work plan showing training and technical assistance deliverables—activities, products and events—planned for the first year.

4. Training Course Outline and Description

A narrative of no more than four pages (in the same double-spaced format) describing one face-to-face training course in a content area relevant to tribal programs. The face-to-face course should be considered part of a two-day event for national service program or project staff. Applicant should submit a session description that includes desired learning outcomes and an outline of session content and the activities that will accomplish the desired outcomes.

5. Technology Strategy

A description of no more than three pages (in the same format) of how the applicant proposes to use technology to extend the reach of the training and technical assistance delivery. The description should include the target audience, proposed uses of technology, rationale for approach, concepts and skills to be delivered, and how the strategy's effectiveness will be evaluated.

6. Organizational Capacity

a. A narrative of no more than four pages (in the same format) that describes:

i. The organization's knowledge of and/or experience with service programs operated by Indian tribes and/or involving Native Americans;

ii. The organization's capacity to provide relevant training and technical assistance services on a nationwide scope, and recent work similar to that being proposed;

b. Names and contact information of three to five references that can comment on the work described above.

c. A list of proposed staff with their areas of expertise (Note: Key staff will be subject to Corporation approval) and resumes of the individuals who will be primarily responsible for the proposed deliverables with their relevant experience highlighted.

d. An organizational chart that shows the relationship of the training and technical assistance service Provider (including partners, if any) to the overall structure of the legal applicant to this Notice.

7. Budget

A detailed, line-item budget with costs organized by personnel, task and sub-task that lead to the deliverables as outlined in the proposal narrative and work plan. Costs in proposed budgets must consist solely of costs allowable under applicable cost principles found in OMB Circulars (OMB Circular A-87 for state and local governments, A-121 for non-profit organizations, A-21 for institutions of higher education) and in F.A.R. part 31 for commercial entities.

Applicants should be mindful that a demonstrated commitment to providing services in the most cost-effective manner possible will be a major consideration in the evaluation of proposals. Provider match is not required. The budget should include:

a. Proposed staff and expert-consultant hours and pay rates by task and sub-task (include daily maximums for consultants);

b. Types and quantities of other direct costs being proposed by task and sub-task (for example, amounts of travel and volume of other task-related resources, such as communications, postage, etc.).

8. Budget Narrative

Provide a budget narrative that corresponds with all items in the line-item budget and that includes an explanation of all cost estimates that appear in the line-item budget. The narrative should clearly show how each cost was derived, using equations to reflect all factors considered.

B. Selection Criteria

To ensure fairness to all applicants, the Corporation reserves the right to take remedial action, up to and including disqualification, in the event a proposal fails to comply with the requirements related to page limits, line spacing, and font size. The Corporation will assess applications based on the criteria listed below.

1. Quality (35%)

The Corporation will consider the quality of the proposed activities based on:

a. Evidence of the applicant's knowledge and understanding of the role national and community service and service-learning programs can play in meeting Indian tribal and Native American goals and needs, and the role of training and technical assistance in supporting this effort.

b. The soundness of the strategies and activities the applicant will use to accomplish the training and technical assistance objectives presented in this Notice (see particularly Sections V.A.1-10, T/TA Objectives, and V.B.1, Performance Measurement and Accountability, above) to support national and community service and service-learning programs involving Native Americans.

2. Organizational Capacity and Personnel (35%)

The Corporation will consider the capacity of the applicant to deliver the proposed services based on:

a. Demonstrated ability to design and deliver high-quality, adult, experiential training and technical assistance relevant to Native Americans;

b. Demonstrated ability to design and deliver training and technical assistance in a responsive, flexible and creative manner, using a variety of techniques and at a variety of levels; demonstrated knowledge of staff and consultants in training and capacity-building design and delivery methodologies;

c. Evidence of the organization's experience in problem identification and needs assessment, clarification of needs, and development of suitable T/TA strategies to meet those needs;

d. Evidence of the organization's experience in collaborative partnering with other organizations in T/TA activities;

e. Evidence of the organization's experience in developing and using practical, appropriate materials in support of its T/TA activities;

f. Evidence of the organization's experience using technology as a strategy in training and technical assistance;

g. Demonstrated knowledge of staff and consultants in content areas relevant to the types of T/TA which might be required under this agreement, including sustainability and program evaluation and accountability topics;

h. Evidence of the organization's experience in identifying and documenting appropriate relevant and significant outcomes of training and technical assistance;

i. Demonstrated ability to manage a federal grant or apply sound fiscal management principles to grants as evidenced by the applicant's previous grants experience.

3. Evaluation (15%)

The Corporation will consider how the applicant:

a. proposes to measure the need for and outcomes of their products and services;

b. plans to collect data and use assessments to modify and improve their products and services.

4. Budget (15%)

The Corporation will consider the budget based on:

a. Cost-effectiveness of the proposed training and technical assistance activities;

b. The clarity and thoroughness of the budget and budget narrative (see specifications under “Budget Narrative”).

VII. Glossary of Terms

Grantees

Entities funded directly by the Corporation. These may include: state commissions on national and community service, national non-profit organizations, Indian tribes, and entities in states or U.S. Territories that do not have a state commission.

Sub-Grantees

Organizations receiving funds from Grantees of the Corporation.

National Service Resource Center (NSRC)

The National Service Resource Center (NSRC) serves as a repository of information on all aspects of national service. The NSRC manages most of the Corporation's listservs and maintains and operates a library of print and media materials related to service and a toll-free information and referral service. Training and technical assistance publications are posted or distributed by the NSRC and its Web site (www.etr.org/nsrc) includes a calendar of training events and links to all current providers.

National Service-Learning Clearinghouse

National Service-Learning Clearinghouse serves as the primary resource on service-learning for Learn and Serve America grantees in higher education, K-12, community-based organizations and tribes, as well as the entire service-learning community. Its resources include a Web site (http://www.servicelearning.org), a library collection, reference and referral, Learn and Serve America project directory, listservs, and expert technical support.

CFDA No. 94.009 Training and Technical Assistance

Dated: August 29, 2002.
Gretchen Van der Veer,
Director, Office of Leadership Development and Training.

[FR Doc. 02-22563 Filed 9-4-02; 8:45 am]

BILLING CODE 6050-$$-P